INTERNATIONAL TRADE COMMISSION

Notice of Appointment of Individuals To Serve as Members of Performance Review Board

AGENCY: United States International Trade Commission.

ACTION: Appointment of Individuals To Serve as Members of Performance Review Board.

DATES: Effective: July 4, 2008.

FOR FURTHER INFORMATION CONTACT: Cynthia Roscoe, Director of Human Resources, U.S. International Trade Commission, (202) 205-2651.

SUPPLEMENTARY INFORMATION: The Chairman of the U.S. International Trade Commission has appointed the following individuals to serve on the Commission's Performance Review Board (PRB):

Chair of the PRB: Vice-Chairman Daniel R. Pearson.

Vice-Chair of the PRB: Dean A. Pinkert.

Member: David Beck.

Member: Robert G. Carpenter.

Member: Robert B. Koopman.

Member: Karen Laney-Cummings.

Member: Lynn I. Levine.

Member: James M. Lyons.

Member: Stephen A. McLaughlin.

Member: Robert A. Rogowsky.

Member: Lyn M. Schlitt.

This notice is published in the Federal Register pursuant to the requirement of 5 U.S.C. 4314(c)(4). This notice replaces the notice published at 73 FR 46334 (August 8, 2008); that notice is withdrawn. Hearing-impaired individuals are advised that information on this matter can be obtained by contacting our TDD terminal on (202) 205-1810.

Issued: August 8, 2008.
By order of the Chairman.
Marilyn R. Abbott,
Secretary to the Commission.

[FR Doc. E8-18768 Filed 8-13-08; 8:45 am]

BILLING CODE 7020-02-P